Title 3—

The President

Proclamation 8657 of April 22, 2011

Earth Day, 2011

By the President of the United States of America

A Proclamation

For over 40 years, our Nation has come together on Earth Day to appreciate and raise awareness about our environment, natural heritage, and the resources upon which generations of Americans have depended. Healthy land and clean water and air are essential to the health of our communities and wildlife. Earth Day is an opportunity to renew America’s commitment to preserving and protecting the state of our environment through community service and responsible stewardship.

From the purity of the air we breathe and the water we drink to the condition of the land where we live, work, and play, the vitality of our natural resources has a profound influence on the well-being of our families and the strength of our economy. Our Nation has a proud conservation tradition, which includes countless individuals who have worked to safeguard our natural legacy and ensure our children can benefit from these resources. Looking to the future of our planet, American leadership will continue to be pivotal as we confront the environmental challenges that threaten the health of both our country and the globe.

Today, our world faces the major global environmental challenge of a changing climate. Our entire planet must address this problem because no nation, however large or small, wealthy or poor, can escape the impact of climate change. The United States can be a leader in reducing the dangerous pollution that causes global warming and can propel these advances by investing in the clean energy technologies, markets, and practices that will empower us to win the future.

While our changing climate requires international leadership, global action on clean energy and climate change must be joined with local action. Every American deserves the cleanest air, the safest water, and unpolluted land, and each person can take steps to protect those precious resources. When we reduce environmental hazards, especially in our most overburdened and polluted cities and neighborhoods, we prioritize the health of our families, and move towards building the clean energy economy of the 21st century.

To meet this responsibility, Federal and local programs will continue to ensure our Nation’s clean air and water laws are effective, that our communities are protected from contaminated sites and other pollution, and that our children are safe from chemicals, toxins, and other environmental threats. Partnerships and community-driven strategies, like those highlighted by the America’s Great Outdoors Initiative, are vital to building a future where children have access to outdoor places close to their homes; where our rural working lands and waters are conserved and restored; and our parks, forests, waters, and other natural areas are protected for future generations.

On Earth Day, we recognize the role that each of us can play in preserving our natural heritage. To protect our environment, keep our communities healthy, and help develop the economy of the future, I encourage all Americans to visit www.WhiteHouse.Gov/EarthDay to learn ways to protect and preserve our environment for centuries to come.

NOW, THEREFORE, I, BARACK OBAMA, President of the United States of America, by virtue of the authority vested in me by the Constitution and the laws of the United States, do hereby proclaim April 22, 2011, as Earth Day. I encourage all Americans to participate in service programs and activities that will protect our environment and contribute to a prosperous, healthy, and sustainable future.

IN WITNESS WHEREOF, I have hereunto set my hand this twenty-second day of April, in the year of our Lord two thousand eleven, and of the Independence of the United States of America the two hundred and thirty-fifth.

[FR Doc. 2011-10397

Filed 4-27-11; 8:45 am]

Billing code 3195-W1-P